DEPARTMENT OF JUSTICE

Parole Commission

Sunshine Act Meeting

TIME AND DATE: 10:00 a.m., October 6, 2015.

PLACE: U.S. Parole Commission, 90 K Street NE., 3rd Floor, Washington, DC

STATUS: Open.

MATTERS TO BE CONSIDERED: Approval of June 2, 2015 minutes; Introduction of new Chief of Staff; Approval of Final Rule on Applying the 1972 DC Board Guidelines to DC Code Offenses Committed on or before March 3, 1985.

CONTACT PERSON FOR MORE INFORMATION: Jacqueline Graham, Staff Assistant to the Chairman, U.S. Parole Commission, 90 K Street NE., 3rd Floor, Washington, DC 20530, (202) 346-7010.

Dated: September 29, 2015.
J. Patricia W. Smoot,
Chairman, U.S. Parole Commission.

[FR Doc. 2015-25208 Filed 9-30-15; 11:15 am]

BILLING CODE 4410-31-P